DEPARTMENT OF HOMELAND SECURITY

[Docket No. DHS-2019-0011]

Homeland Security Advisory Council

AGENCY: The Office of Partnership and Engagement (OPE),The Department of Homeland Security (DHS).

ACTION: Notice of partially closed Federal Advisory Committee meeting.

SUMMARY: The Homeland Security Advisory Council (“HSAC” or “Council”) will meet in person on Tuesday, May 21, 2019. Members of the public may participate in person. The meeting will be partially closed to the public.

DATES: The Council will meet May 21, 2019, from 8:30 a.m. to 3:30 p.m. EDT. The meeting will be open to the public from 1:00 p.m. to 3:30 p.m. EDT. Please note the meeting may close early if the Council has completed its business. The meeting will be closed to the public from 8:45 a.m. to 12:50 p.m. EDT.

ADDRESSES: The public meeting will be held at the Woodrow Wilson International Center for Scholars (“Wilson Center”), located at 1300 Pennsylvania Avenue NW, Washington, DC 20004. All visitors will be processed through the lobby of the Wilson Center. For information on facilities or services for individuals with disabilities, or to request special assistance at the meeting, contact Mike Miron at HSAC@hq.dhs.gov or (202) 447-3135 as soon as possible. Written public comments prior to the meeting must be received by 5:00 p.m. EDT on Friday, May 17, 2018, and must be identified by Docket No. DHS-2019-0011. Written public comments after the meeting must be identified by Docket No. DHS-2019-0011 and may be submitted by one of the following methods:

• Federal eRulemaking Portal: http://www.regulations.gov. Follow the instructions for submitting comments.

• Email: HSAC@hq.dhs.gov. Include Docket No. DHS-2019-0011 in the subject line of the message.

• Fax: (202) 282-9207. Include Mike Miron and the Docket No. DHS-2019-0011 in the subject line of the message.

• Mail: Mike Miron, Deputy Executive Director of Homeland Security Advisory Council, Office of Partnership and Engagement, Mailstop 0385, Department of Homeland Security, 2707 Martin Luther King Jr Ave. SE, Washington, DC 20528.

Instructions: All submissions received must include the words “Department of Homeland Security” and “DHS-2019-0011,” the docket number for this action. Comments received will be posted without alteration at http://www.regulations.gov, including any personal information provided.

Docket: For access to the docket to read comments received by the Council, go to http://www.regulations.gov, search “DHS-2019-0011,” “Open Docket Folder” and provide your comments.

FOR FURTHER INFORMATION CONTACT: Mike Miron at HSAC@hq.dhs.gov or at (202) 447-3135.

SUPPLEMENTARY INFORMATION: Notice of this meeting is given under Section 10(a) of the Federal Advisory Committee Act (FACA), Public Law 92-463 (5 U.S.C. Appendix), which requires each FACA committee meeting to be open to the public.

The Council provides organizationally independent, strategic, timely, specific, actionable advice, and recommendations to the Secretary of Homeland Security on matters related to homeland security. The Council is comprised of leaders of local law enforcement, first responders, Federal, State, and local government, the private sector, and academia.

The Council will meet in an open session between 1:00 p.m. to 3:30 p.m. EDT. The Council will swear in new members, they will receive an update from the Families and Children Care Panel subcommittee, and review and deliberate on reports from the; State, Local, Tribal, and Territorial Cybersecurity; Emerging Technologies; and Countering Foreign Influence subcommittees. Following this, there will be a break for public commentary.

The Council will meet in a closed session from 8:45 a.m. to 12:50 p.m. EDT to receive sensitive operational information from senior officials on current counterterrorism threats, border security, aviation security, and cybersecurity.

Basis for Partial Closure: In accordance with Section 10(d) of FACA, the Secretary of Homeland Security has determined this meeting requires partial closure. The disclosure of the information relayed would be detrimental to the public interest for the following reasons:

The Council will receive closed session briefings at the For Official Use Only and Law Enforcement sensitive information from senior officials. These briefings will concern matters sensitive to homeland security within the meaning of 5 U.S.C. 552b(c)(7)(E) and 552b(c)(9)(B). The Council will receive operational counterterrorism updates on the current threat environment and security measures associated with countering such threats, including those related to aviation security programs, border security, immigration enforcement, and cybersecurity.

The session is closed under 5 U.S.C. 552b(c)(7)(E) because disclosure of that information could reveal investigative techniques and procedures not generally available to the public, allowing terrorists and those with interests against the United States to circumvent the law and thwart the Department's strategic initiatives. Specifically, there will be material presented during the briefings regarding the latest viable threats against the United States and how DHS and other Federal agencies plan to address those threats. Disclosure of this information could frustrate the successful implementation of protective measures designed to keep our country safe. In addition, the session is closed pursuant to 5 U.S.C. 552b(c)(9)(B) because disclosure of these techniques and procedures could frustrate the successful implementation of protective measures designed to keep our country safe.

Participation: Members of the public will have until 5:00 p.m. EDT on Friday, May 17, 2019, to register to attend the Council meeting on Tuesday, May 21, 2019. Due to limited availability of seating, admittance will be on a first-come first-serve basis. Participants interested in attending the meeting can contact Mike Miron at HSAC@hq.dhs.gov or (202) 447-3135. You are required to provide your full legal name, date of birth, and company/agency affiliation. The public may access the facility via public transportation or use the public parking garages located near the Fashion Centre at Pentagon City. Members of the public will meet at 12:30 p.m. EDT at the lobby of the Wilson Center. Late arrivals after 1:00 p.m. EDT will not be permitted access to the facility.

Facility Access: You are required to present a valid original government issued ID, to include a State Driver's License or Non-Driver's Identification Card, U.S. Government Common Access Card (CAC), Military Identification Card or Person Identification Verification Card; U.S. Passport, U.S. Border Crossing Card, Permanent Resident Card or Alien Registration Card; or Native American Tribal Document.

Dated: April 29, 2019.
Matthew Hayden,
Executive Director, Homeland Security Advisory Council, Department of Homeland Security.

[FR Doc. 2019-09318 Filed 5-6-19; 8:45 am]

BILLING CODE 9110-9B-P